DEPARTMENT OF TRANSPORTATION

Federal Aviation Administration

14 CFR Part 39

[Docket No. FAA-2018-0358; Product Identifier 2017-NM-142-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A319-131, A319-132, A319-133, A320-231, A320-232, A320-233, A321-131, A321-231, and A321-232 airplanes. This proposed AD was prompted by reports of fan cowl door (FCD) losses during take-off. This proposed AD would require modification and re-identification, or replacement, of certain FCDs, and installation of a placard in the flight deck. We are proposing this AD to address the unsafe condition on these products.

DATES: We must receive comments on this proposed AD by June 18, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Bombardier Short Brothers, PLC, Airworthiness, P.O. Box 241, Airport Road, Belfast, BT3 9DZ Northern Ireland; telephone +44(0)2890-462469; fax +44(0)2890-468444; email michael.mulholland@aero.bombardier.com; internet http://www.bombardier.com. You may view this service information at the FAA, Transport Standards Branch, 2200 South 216th St., Des Moines, WA. For information on the availability of this material at the FAA, call 206-231-3195.

Examining the AD Docket

You may examine the AD docket on the internet at http://www.regulations.gov by searching for and locating Docket No. FAA-2018-0358; or in person at the Docket Management Facility between 9 a.m. and 5 p.m., Monday through Friday, except Federal holidays. The AD docket contains this NPRM, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Section, Transport Standards Branch, FAA, 2200 South 216th St., Des Moines, WA 98198; telephone and fax 206-231-3223.

SUPPLEMENTARY INFORMATION:

Comments Invited

We invite you to send any written relevant data, views, or arguments about this proposal. Send your comments to an address listed under the ADDRESSES section. Include “Docket No. FAA-2018-0358; Product Identifier 2017-NM-142-AD” at the beginning of your comments. We specifically invite comments on the overall regulatory, economic, environmental, and energy aspects of this NPRM. We will consider all comments received by the closing date and may amend this NPRM based on those comments.

We will post all comments we receive, without change, to http://www.regulations.gov, including any personal information you provide. We will also post a report summarizing each substantive verbal contact we receive about this NPRM.

Discussion

The European Aviation Safety Agency (EASA), which is the Technical Agent for the Member States of the European Union, has issued EASA Airworthiness Directive 2017-0178, dated September 15, 2017 (referred to after this as the Mandatory Continuing Airworthiness Information, or “the MCAI”), to correct an unsafe condition for certain Airbus Model A319-131, A319-132, A319-133, A320-231, A320-232, A320-233, A321-131, A321-231, and A321-232 airplanes. The MCAI states:

Fan Cowl Door (FCD) losses during take-off were reported on Airbus A320 family aeroplanes equipped with IAE [International Aero Engines] V2500 engines. Investigations confirmed that in all cases, the FCD were opened prior to the flight and were not correctly re-secured. During the pre-flight inspection, it was not detected that the FCD were not properly latched.

This condition, if not corrected, could lead to in-flight loss of an FCD, possibly resulting in damage to the aeroplane and/or injury to persons on the ground.

EASA issued AD 2016-0053 [which corresponds to FAA AD 2017-13-10, Amendment 39-18940 (82 FR 29371, June 29, 2017) (“AD 2017-13-10”)], requiring modification of the FCD installed on affected aeroplanes, and installation of a placard in the cockpit, in accordance with the instructions of Airbus Service Bulletin (SB) A320-71-1069 (which in turns refers to Goodrich SB V2500-NAC-71-0331 for FCD modification and re-identification).

The monolithic FCDs, installed on aeroplanes embodying Short Brothers supplemental type certificate (STC) 10029547, are also affected by this potential unsafe condition. Consequently, the STC Holder, trading as Bombardier Short Brothers, developed a modification, similar to the one designed by Airbus, and issued SB V25MFC-71-1003. The modification consists of a new FCD front latch and keeper assembly, having a specific key necessary to un-latch the FCD. This key cannot be removed unless the FCD front latch is safely closed. The key, after removal, must be stowed in the flight deck at a specific location, as instructed in the applicable Aircraft Maintenance Manual. The applicable Flight Crew Operating Manual has been amended accordingly. After modification, the FCD is identified with a different Part Number (P/N).

Mixed FCD installation can be found on aeroplanes embodying [EASA] STC 10029547 (i.e., Monolithic FCD and standard production non-Monolithic FCD). For standard production non-Monolithic FCD, Bombardier Short Brothers SB V25MFC-71-1003 specifies to accomplish the instructions of Goodrich SB V2500-NAC-71-0331, as applicable.

For the reasons described above, this [EASA] AD requires modification and re-identification of FCD, and installation of a placard in the cockpit.

You may examine the MCAI in the AD docket on the internet at http://www.regulations.gov by searching for and locating Docket No. FAA-2018-0358.

Related Service Information Under 1 CFR Part 51

Bombardier Short Brothers, PLC has issued Service Bulletin V25MFC-71-1003, dated September 28, 2016. The service information describes procedures for installing modified latches on the left and right engine FCDs, and re-identifying the FCDs. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Differences Between This Proposed AD and the MCAI or Service Information

EASA AD 2017-0178, dated September 15, 2017, includes both monolithic FCDs and non-monolithic FCDs (those not modified by Bombardier Short Brothers, PLC Supplemental Type Certificate (STC) ST03076NY). Required actions for the non-monolithic FCDs are included in AD 2017-13-10 (which corresponds to EASA AD 2016-0053, dated March 14, 2016), so we have not included them in this AD.

Costs of Compliance

We estimate that this proposed AD affects 557 airplanes of U.S. registry. We estimate the following costs to comply with this proposed AD:

Estimated Costs
Action | Labor cost | Parts cost | Cost per product | Cost on U.S. operators
Modification and re-identification (or replacement), and placard installation | 8 work-hours × $85 per hour = $680 | $1,500 | $2,180 | $1,214,260

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2018-0358; Product Identifier 2017-NM-142-AD.

(a) Comments Due Date

We must receive comments by June 18, 2018.

(b) Affected ADs

None.

(c) Applicability

This AD applies to Airbus Model A319-131, A319-132, A319-133, A320-231, A320-232, A320-233, A321-131, A321-231, and A321-232 airplanes, certificated in any category, if modified by Bombardier Short Brothers, PLC Supplemental Type Certificate (STC) ST03076NY.

(d) Subject

Air Transport Association (ATA) of America Code 71, Powerplant.

(e) Reason

This AD was prompted by reports of fan cowl door (FCD) losses during takeoff. We are issuing this AD to prevent in-flight loss of an FCD, which could result in damage to the airplane and injury to persons on the ground.

(f) Compliance

Comply with this AD within the compliance times specified, unless already done.

(g) Modification and Re-Identification of FCDs

Within 18 months after the effective date of this AD: Do the modification and re-identification specified in paragraphs (g)(1) and (g)(2) of this AD.

(1) Modify each left-hand (LH) and right-hand (RH) FCD having a part number listed as “Old Part Number” in table 1 to paragraphs (g), (h), and (l) of this AD, in accordance with the Accomplishment Instructions of Bombardier Short Brothers Service Bulletin V25MFC-71-1003, dated September 28, 2016.

(2) Re-identify each modified FCD with the part number listed as “New Part Number” in table 1 to paragraphs (g), (h), and (l) of this AD, in accordance with the Accomplishment Instructions of Bombardier Short Brothers Service Bulletin V25MFC-71-1003, dated September 28, 2016.

Table 1 to Paragraphs (g), (h), and (l) of This AD—Monolithic FCD Part Number Change
FCD position | Old part No. | New part No.
LH | 745B4000-501 | 745B4000-507
| 745B4000-503 | 745B4000-509
| 745B4000-505 | 745B4000-511
RH | 745B4000-502 | 745B4000-508
| 745B4000-504 | 745B4000-510
| 745B4000-506 | 745B4000-512

(h) Optional Compliance by Replacement or Installation

(1) Replacement of the FCDs having a part number listed as “Old Part Number” in table 1 paragraphs (g), (h), and (l) of this AD, with the FCDs having the corresponding part number listed as “New Part Number” in table 1 to paragraphs (g), (h), and (l) of this AD, is acceptable for compliance with the requirements of paragraph (g) of this AD.

(2) Installation on an engine of a right-hand and left-hand engine FCD having a part number approved after the effective date of this AD is acceptable for compliance with the requirements of paragraph (g) of this AD for that engine only, provided the conditions specified in paragraphs (h)(2)(i) and (h)(2)(ii) of this AD are met.

(i) The part number is approved using a method approved by the Manager, International Section, Transport Standards Branch, FAA; or the European Aviation Safety Agency (EASA); or Bombardier Short Brothers, PLC's EASA Design Organization Approval (DOA). If approved by the DOA, the approval must include the DOA-authorized signature.

(ii) The installation is accomplished using a method approved by the Manager, International Section, Transport Standards Branch, FAA; or EASA; or Bombardier Short Brothers, PLC's EASA DOA. If approved by the DOA, the approval must include the DOA-authorized signature.

(i) Placard Installation

For airplanes on which Airbus modification 157718 has not been embodied in production: Within 18 months after the effective date of this AD, install a placard that specifies the FCD keys stowage location in the flight deck on the box located at the bottom of the 120VU panel, or at the bottom of the coat stowage, as applicable to airplane configuration, using a method approved by the Manager, International Section, Transport Standards Branch, FAA; or EASA; or Bombardier Short Brothers, PLC's EASA DOA. If approved by the DOA, the approval must include the DOA-authorized signature.

(j) Missing FCD Keys or Placard

Flights with one or both FCD keys missing from the stowage location in the fight deck, or with the placard (that specifies the FCD keys stowage location) missing or damaged, are permitted for a period not to exceed 10 calendar days from the date of discovery.

(k) Alternate Location of FCD Keys and Placard

As an option to paragraph (i) of this AD, an alternate location for the key stowage in the flight deck and installation of a placard for identification of that stowage location are permitted as specified in the operator's FAA-accepted maintenance or inspection program, provided the keys can be retrieved from that flight deck location when needed and the placard installation is done within 18 months after the effective date of this AD.

(l) Parts Installation Prohibition

No person may install on any airplane an FCD with a part number identified as “Old Part Number” in table 1 to paragraphs (g), (h), and (l) of this AD, after the time specified in paragraph (l)(1) or (l)(2) of this AD, as applicable.

(1) For any airplane with an installed FCD having a part number identified as “Old Part Number” in table 1 to paragraphs (g), (h), and (l) of this AD: After modification of that airplane as required by paragraph (g) of this AD or as specified in paragraph (h) of this AD.

(2) For any airplane without an installed FCD having a part number identified as “Old Part Number” in table 1 to paragraphs (g), (h), and (l) of this AD: After the effective date of this AD.

(m) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (n)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the EASA; or Bombardier Short Brothers, PLC's EASA DOA. If approved by the DOA, the approval must include the DOA-authorized signature.

(n) Related Information

(1) Refer to Mandatory Continuing Airworthiness Information (MCAI) EASA Airworthiness Directive 2017-0178, dated September 15, 2017, for related information. This MCAI may be found in the AD docket on the internet at http://www.regulations.gov by searching for and locating Docket No. FAA-2018-0358.

(2) For more information about this AD, contact Sanjay Ralhan, Aerospace Engineer, International Section, Transport Standards Branch, FAA, 2200 South 216th St., Des Moines, WA 98198; telephone and fax 206-231-3223.

(3) For service information identified in this AD, contact Bombardier Short Brothers, PLC, Airworthiness, P.O. Box 241, Airport Road, Belfast, BT3 9DZ Northern Ireland; telephone +44(0)2890-462469; fax +44(0)2890-468444; email michael.mulholland@aero.bombardier.com; internet http://www.bombardier.com. You may view this service information at the FAA, Transport Standards Branch, 2200 South 216th St., Des Moines, WA. For information on the availability of this material at the FAA, call 206-231-3195.

Issued in Des Moines, Washington, on April 20, 2018.
Michael Kaszycki,
Acting Director, System Oversight Division, Aircraft Certification Service.

[FR Doc. 2018-09277 Filed 5-3-18; 8:45 am]

BILLING CODE 4910-13-P